DEPARTMENT OF TRANSPORTATION

Research and Special Programs Administration

[Docket No. RSPA-2000-6944 (Notice No. 00-8)]

Notice of Information Collection Approval

AGENCY: Research and Special Programs Administration (RSPA), DOT.

ACTION: Notice of information collection approval

SUMMARY: This notice announces OMB approval of information collection requests (ICRs), for OMB No. 2137-0559, “Rail Carriers and Tank Car Tanks Requirements”; OMB No. 2137-0014, “Requirements for Cargo Tanks”; OMB No. 2137-0051, “Rulemaking, Exemption, and Preemption Requirements”; and OMB No. 2137-0557, “Approvals for Hazardous Materials”. These information collections have been extended until August 31, 2003.

DATES: The expiration date for these ICRs is August 31, 2003.

ADDRESSES: Requests for a copy of an information collection should be directed to Deborah Boothe, Office of Hazardous Materials Standards (DHM-10), Research and Special Programs Administration, Room 8102, 400 Seventh Street, SW, Washington, DC 20590-0001.

FOR FURTHER INFORMATION CONTACT: Deborah Boothe, Office of Hazardous Materials Standards (DHM-10), Research and Special Programs Administration, Room 8102, 400 Seventh Street, SW, Washington, DC 20590-0001, Telephone (202) 366-8553.

SUPPLEMENTARY INFORMATION: Office of Management and Budget (OMB) regulations (5 CFR 1320) implementing provisions of the Paperwork Reduction Act of 1995 (Pub. L. 104-13) require that interested members of the public and affected agencies have an opportunity to comment on information collection and recordkeeping activities (see 5 CFR 1320.8(s)) and specify that no person is required to respond to an information collection unless it displays a valid OMB control number. In accordance with the Paperwork Reduction Act of 1995, RSPA has received OMB approval of the following ICRs:

OMB Control Number: 2137-0559.

Title: Rail Carriers and Tank Car Tanks Requirements.

OMB Control Number: 2137-0014.

Title: Requirements for Cargo Tanks.

OMB Control Number: 2137-0051.

Title: Rulemaking, Exemption, and Preemption Requirements.

OMB Control Number: 2137-0557.

Title: Approvals for Hazardous Materials.

These information collection approvals expire on August 31, 2003.

Issued in Washington, DC on August 22, 2000.
Thomas G. Allan,
Acting Director, Office of Hazardous Materials Standards.

[FR Doc. 00-21822 Filed 8-24-00; 8:45 am]

BILLING CODE 4910-60-P